DEPARTMENT OF ENERGY

Federal Energy Regulatory Commission

[Project No. 1894-207]

South Carolina Electric & Gas Company; South Carolina Parr Hydroelectric Project; Notice of Proposed Revised Restricted Service List for a Programmatic Agreement

Rule 2010 of the Federal Energy Regulatory Commission's (Commission) Rules of Practice and Procedure, 18 CFR 385.2010, provides that, to eliminate unnecessary expense or improve administrative efficiency, the Secretary may establish a restricted service list for a particular phase or issue in a proceeding concerning non-public information. The restricted service list should contain the names of persons on the service list who, in the judgment of the decisional authority establishing the list, are active participants with respect to the phase or issue in the proceeding for which the list is established.

The Commission staff is consulting with the Maine Historic Preservation Commission (Maine SHPO) and the Advisory Council on Historic Preservation (Advisory Council) pursuant to the Advisory Council's regulations, 36 CFR part 800, implementing section 106 of the National Historic Preservation Act, as amended, (54 U.S.C. 306108), to prepare a Programmatic Agreement for managing properties included in, or eligible for inclusion in, the National Register of Historic Places at the existing Parr Hydroelectric Project.

On November 18, 2014, Commission staff established a restricted service list for the Parr Hydroelectric Project. Since that time, the U.S. Forest Service requested to supplement the restricted service list because of personnel changes. The restricted service list is supplemented as follows:

Replace “Mike Harmon, U.S. Forest Service” with “James F. Bates or Representative, U.S. Forest Service.”

Dated: January 28, 2016.
Nathaniel J. Davis, Sr.,
Deputy Secretary.

[FR Doc. 2016-01957 Filed 2-2-16; 8:45 am]

BILLING CODE 6717-01-P